DEPARTMENT OF LABOR

Occupational Safety and Health Administration

OSHA Training Institute Education Center; Notice of Competition and Request for Applications

AGENCY: Occupational Safety and Health Administration (OSHA), Labor.

ACTION: Notice of competition and request for applications for the OSHA Training Institute Education Center Program.

SUMMARY: The Occupational Safety and Health Administration (OSHA) conducts short-term technical training in occupational safety and health topics through the OSHA Training Institute in Arlington Heights, Illinois. The number of requests for training from private sector personnel and federal personnel from agencies other than OSHA increased beyond the capacity of the OSHA Training Institute to meet the demand. In October 1992, OSHA began the program of using other training and educational institutions to conduct select OSHA Training Institute courses for private sector personnel and for federal personnel from agencies other than OSHA. Additional information regarding the OTI Education Center Program background, including a complete list of current organizations and course offerings, can be found on the OSHA Web site at: http://www.osha.gov/fso/ote/training/edcenters/index.html.

This notice announces the opportunity for interested nonprofit organizations to submit applications to become an OSHA Training Institute Education Center. Applications will be rated on a competitive basis. Complete application instructions are contained in this notice. This notice also contains information on a proposal conference designed to provide potential applicants with information about the OSHA Training Institute Education Center Program.

DATES: Applications (3 copies) must be received by 4:30 p.m. central time on Friday, August 24, 2007. The proposal conference date is Tuesday, August 7, 2007, from 1 p.m. to 3 p.m. central time, at the OSHA Directorate of Training and Education, 2020 S. Arlington Heights Rd., Arlington Heights, Illinois 60005-4102.

ADDRESSES: Submit applications (3 copies) to the U.S. Department of Labor, Occupational Safety and Health Administration, Directorate of Training and Education, Office of Training and Educational Programs, 2020 S. Arlington Heights Rd., Arlington Heights, Illinois 60005-4102.

FOR FURTHER INFORMATION CONTACT: Neil Elbrecht, Program Analyst, or Jim Barnes, Director, Office of Training and Educational Programs, OSHA Directorate of Training and Education, 2020 S. Arlington Heights Rd., Arlington Heights, Illinois 60005-4102, telephone (847) 297-4810.

SUPPLEMENTARY INFORMATION:

OSHA Training Institute (OTI)

The OSHA Training Institute in Arlington Heights, Illinois, is the primary training provider of the Occupational Safety and Health Administration. It conducts more than 100 short-term courses and seminars covering OSHA standards, policies, and procedures for persons responsible for enforcing or directly supporting the Occupational Safety and Health Act, for private sector employers and employees, and federal personnel from agencies other than OSHA. The OSHA Training Institute's primary responsibility is to federal and state compliance officers and state consultation program staff. Private sector personnel and federal personnel from agencies other than OSHA receive training from the OSHA Training Institute on a space available basis.

OTI Education Center Program Origin

By the early 1990s, requests for training from federal and state compliance officers, state consultation program staff, private sector personnel, and federal personnel from agencies other than OSHA had increased beyond the capacity of the OSHA Training Institute to meet the demand. In addition, resources of the OSHA Training Institute had not increased at a rate that could keep up with the demand. As the number of students from federal and state personnel engaged in enforcement or consultation increased, opportunities for training for private sector personnel and federal personnel from agencies other than OSHA remained static or decreased. In order to meet the increased demand for its courses, the OSHA Training Institute selected nonprofit organizations to conduct select OSHA Training Institute courses for private sector personnel and federal personnel from agencies other than OSHA. Current organizations were selected through regional competitions.

Current OTI Education Centers

The current OSHA Training Institute Education Centers are: Keene State College, Manchester, New Hampshire; Rochester Institute of Technology, Rochester, New York; University of Medicine & Dentistry of New Jersey, Piscataway, New Jersey/State University of New York, Buffalo, New York/Universidad Metropolitana, Bayamón Puerto Rico; Building and Construction Trades Department AFL-CIO/Center to Protect Workers' Rights, Washington, DC/National Labor College, Silver Spring, Maryland/West Virginia University, Morgantown, West Virginia; Indiana University of Pennsylvania, Indiana, Pennsylvania; Georgia Technical Research Institute, Atlanta, Georgia; Eastern Kentucky University, Richmond, Kentucky; University of South Florida, Tampa, Florida; Eastern Michigan University, Ypsilanti, Michigan/United Auto Workers, Detroit, Michigan/University of Cincinnati, Cincinnati, Ohio; Northern Illinois University, DeKalb, Illinois/Construction Safety Council, Hillside, Illinois/National Safety Council, Itasca, Illinois; Ohio Valley Construction Education Foundation, Springboro, Ohio/Sinclair Community College, Dayton, Ohio; Texas Engineering Extension Service, Texas A&M University System, Mesquite, Texas; Metropolitan Community Colleges, Business & Technology Center, Kansas City, Missouri; Kirkwood Community College, Kirkwood, Iowa/Saint Louis University, Saint Louis, Missouri/National Safety Council of Greater Omaha, Omaha, Nebraska; University of Utah/Salt Lake Community College, Salt Lake City, Utah; Red Rocks Community College, Lakewood, Colorado; University of California, San Diego, San Diego, California; Westside Energy Services, Taft, California; and the University of Washington, Seattle, Washington.

OTI Education Center Selection Guidelines

OSHA does not have a predetermined number of organizations to be selected to act as OSHA Training Institute Education Centers. Rather, the number of organizations selected will be determined according to the qualifications of the applicants and their ability to serve the regional populations. Colleges, universities, or other nonprofit training organizations will be selected based upon their ability to conduct OSHA courses for private sector personnel and federal personnel from agencies other than OSHA.

Geographic Distribution

OSHA Training Institute Education Centers are currently in each OSHA Region. However, OSHA may elect to select more than one OSHA Training Institute Education Center in some OSHA Regions. The Regions contain the following states.

1. Region I: Connecticut, Maine, Massachusetts, New Hampshire, Rhode Island, and Vermont.

2. Region II: New Jersey, New York, Puerto Rico, and Virgin Islands.

3. Region III: Delaware, District of Columbia, Maryland, Pennsylvania, Virginia, and West Virginia.

4. Region IV: Alabama, Florida, Georgia, Kentucky, Mississippi, North Carolina, South Carolina, and Tennessee.

5. Region V: Illinois, Indiana, Michigan, Minnesota, Ohio, and Wisconsin.

6. Region VI: Arkansas, Louisiana, New Mexico, Oklahoma, and Texas.

7. Region VII: Iowa, Kansas, Missouri, and Nebraska.

8. Region VIII: Colorado, Montana, North Dakota, South Dakota, Utah, and Wyoming.

9. Region IX: American Samoa, Arizona, California, Guam, Hawaii, Nevada, and Trust Territories of the Pacific.

10. Region X: Alaska, Idaho, Oregon, and Washington.

For this notice of competition, special emphasis will be given to the following major metropolitan locations:

Austin, TX

Baltimore, MD

Birmingham, AL

Charlotte, NC

Cleveland, OH

Columbus, OH

Hartford, CT

Houston, TX

Indianapolis, IN

Jacksonville, FL

Kansas City, MO

Las Vegas, NV

Los Angeles-Long Beach-Santa Ana, CA

Louisville, KY

Memphis, TN

Miami-Fort Lauderdale, FL

Milwaukee, WI

Minneapolis-St. Paul-Bloomington, MN

Nashville, TN

New Orleans, LA

New York, NY

Northern New Jersey

Oklahoma City, OK

Orlando, FL

Philadelphia, PA

Phoenix-Mesa-Scottsdale, AZ

Pittsburgh, PA

Portland, OR

Providence, RI

Richmond, VA

Riverside-San Bernardino-Ontario, CA

Sacramento, CA

San Antonio, TX

San Francisco-Oakland-Fremont, CA

San Jose-Sunnyvale-Santa Clara, CA

Virginia Beach-Norfolk-Newport News, VA

Wilmington, DE

OTI Courses Required To Be Presented

OSHA Training Institute Education Centers are required to present the following six courses on an annual basis:

#500 Trainer Course in Occupational Safety and Health Standards for the Construction Industry

#501 Trainer Course in Occupational Safety and Health Standards for General Industry

#502 Update for Construction Industry Outreach Trainers

#503 Update for General Industry Outreach Trainers

#510 Occupational Safety and Health Standards for the Construction Industry

#511 Occupational Safety and Health Standards for General Industry

In addition, OTI Education Centers are required to present at least five of the following courses on an annual basis:

#521 OSHA Guide to Industrial Hygiene

#2015 Hazardous Materials

#2045 Machinery and Machine Guarding Standards

#2225 Respiratory Protection

#2250 Principles of Ergonomics Applied to Work-Related Musculoskeletal and Nerve Disorders

#2264 Permit-Required Confined Space Entry

#3010 Excavation, Trenching and Soil Mechanics

#3095 Electrical Standards

#3110 Fall Arrest Systems

#5600 Disaster Site Worker Train-the-Trainer Course

#6000 Collateral Duty Course for Other Federal Agencies

In addition, OTI Education Centers will be allowed, but not required, to present any of the following short courses and seminars:

#7000 OSHA Ergonomic Guidelines for Nursing Homes

#7005 Public Warehousing and Storage

#7100 Introduction to Machinery and Machine Safeguarding

#7105 Evacuation and Emergency Planning

#7200 Bloodborne Pathogen Exposure Control for Healthcare Facilities

#7205 Health Hazard Awareness

#7300 OSHA's Permit-Required Confined Space Standard

#7400 Trainer Course in Construction Noise

#7405 Fall Hazard Awareness for the Construction Industry

#7500 Introduction to Safety and Health Management

#7505 Introduction to Accident Investigation

#7510 Introduction to OSHA for Small Business

#7845 Recordkeeping Rule Seminar

A brief description of each of the courses is attached.

OSHA may increase or decrease the number of different courses available to be offered by the OSHA Training Institute Education Centers.

Selection Criteria

Applicants will be selected based upon their occupational safety and health training experience, their nonacademic training background, the availability of classrooms, laboratories, and conference facilities, access to transportation and lodging at their resident location, and their capability to provide training throughout their Region.

Application Eligibility

Any nonprofit public or private college or university is eligible to apply. Any other nonprofit organization that can demonstrate that training or education is part of its mission and that more than 50 percent of its staff and dollar resources is devoted to training or education is also eligible.

Funding Provisions

OSHA provides no funding to the OSHA Training Institute Education Centers. The OSHA Training Institute Education Centers will be expected to support their OSHA training through their normal tuition and fee structures.

Cooperative Agreement Duration

Selected applicants will sign non-financial cooperative agreements with OSHA effective October 1, 2007 through September 30, 2012. With satisfactory performance, agreements may be renewed without competition for an additional five years.

Geographic Criteria

Applicants must have a physical presence in the OSHA Region for which they are applying. For example, an eligible national organization based in San Francisco that has a training facility in Chicago would have a physical presence in Region V. On the other hand, a national organization based in New York City that rents hotel space to provide training at multiple sites around the country would be considered to have a physical presence only in Region II. OSHA Training Institute Education Centers are expected to provide training throughout their respective Regions. In addition, applicants must demonstrate the capability to locate satellite downlink sites for use by federal and state employees and private sector employers and employees to receive satellite delivered training from the OSHA Training Institute. At a minimum, applicants should identify potential satellite downlink sites in all cities with a federal or state compliance office or state consultation office as well as other major population centers within their Region.

Consortia and Partnerships

Applicants may join with one or more other nonprofit organizations in their Region to apply as a consortium. A training or education institution may elect to apply for this program in partnership with a safety and health organization that is not primarily a training organization. For example, a university could enter into an agreement with a labor union that provides for the use of university classrooms and faculty supplemented by union safety and health professionals. All consortium partners must be physically located in the same OSHA region.

OTI Education Center Responsibilities

OSHA Training Institute Education Centers are responsible for the following:

1. Ensure that instructors are qualified in the courses/subjects they will be teaching.

2. Arrange for course chairpersons to attend OSHA orientation for each OSHA Training Institute course for which they are the chair.

3. Schedule courses on a year-round basis with each required course being offered at least once a year.

4. Schedule courses at various locations throughout their respective Region.

5. Publicize and promote the availability of courses to ensure attendance and the delivery of the scheduled courses.

6. Conduct at least five courses per month and achieve annual student training goals and objectives as established by OSHA.

7. Facilitate student registration.

8. Acquire audiovisual materials for use in the courses.

9. Reproduce handouts for students.

10. Conduct courses in accordance with materials and instructions provided by OSHA.

11. Monitor courses to ensure that OSHA course outlines are being followed and OSHA learning objectives are being met.

12. Collect course evaluation data from students in accordance with OSHA procedures and provide that data to OSHA.

13. Maintain student registration and attendance records in accordance with OSHA guidelines.

14. Issue course completion certificates to students. These certificates, which certify that a student has completed training in a particular course, must be approved by OSHA.

15. Provide the OSHA Directorate of Training and Education with summary reports indicating number of courses delivered, locations of courses, and number of students.

16. Maintain clearly identifiable records of tuition and fees collected from OSHA course students.

17. Identify the availability of appropriate accommodations for students.

18. Administer Outreach Training Program activities. This includes distribution of student cards to active Outreach Training Program trainers and providing trainer and student information to the OSHA Directorate of Training and Education on a regular basis.

Outreach Training Program

The Outreach Training Program is a voluntary program through which OSHA authorizes trainers to conduct 10- and 30-hour training courses on occupational safety and health hazards. Persons who successfully complete either OSHA Training Institute course #500 Trainer Course in Occupational Safety and Health Standards for the Construction Industry or #501 Trainer Course in Occupational Safety and Health Standards for General Industry are authorized to conduct 10- and 30-hour training courses, to submit training documentation to the appropriate organization, and issue OSHA course completion cards to their students. Construction outreach trainers must attend #502 Update for Construction Industry Outreach Trainers once every four years to maintain their active status, while general industry outreach trainers must attend #503 Update for General Industry Outreach Trainers once every four years to maintain their active status.

OSHA Training Institute Responsibilities

The OSHA Training Institute is responsible for the following:

1. Provide OSHA Training Institute Education Center course chairpersons with orientation on how the OSHA Training Institute teaches the course.

2. Provide course objectives for each OSHA course to be presented by the OSHA Training Institute Education Center.

3. Provide answers and technical assistance on questions of OSHA policy.

4. Monitor the performance of the OSHA Training Institute Education Center through on-site visits including unannounced attendance at courses and examination of course reports and attendance records.

5. Evaluate the effectiveness of the OSHA Training Institute Education Center and provide each organization with an annual performance appraisal.

Proposal Conference

The proposal conference is intended to provide potential applicants with information about the OSHA Training Institute, OSHA Training Institute courses and methods of instruction, and administrative and program requirements for a OSHA Training Institute Education Center. The OSHA Directorate of Training and Education will hold one proposal conference.

The proposal conference is scheduled for Tuesday, August 7, 2007 from 1 p.m. to 3 p.m. central time, at the OSHA Directorate of Training and Education, 2020 S. Arlington Heights Rd., Arlington Heights, Illinois 60005-4102.

Applicants interested in attending this conference may contact Neil Elbrecht, Program Analyst, or Jim Barnes, Director, Office of Training and Educational Programs, OSHA Directorate of Training and Education, 2020 S. Arlington Heights Rd., Arlington Heights, Illinois 60005-4102, telephone (847) 297-4810, for information about local accommodations and transportation. It is not necessary to register for the conference.

Application Requirements

Applicants must address each of the following points in their application.

1. Identifying Information. Provide the name and address of their organization. If the mailing address is a post office box, also provide the street address. Provide the name, title, and telephone number of the contact person who can answer questions about the application.

2. Authority to Apply. Provide a copy of the resolution by the Board of Directors, Board of Regents, or other governing body of their organization approving the submittal of an application to OSHA to become an OSHA Training Institute Education Center.

3. Nonprofit Status. Include evidence of the nonprofit status of their organization and of each member organization if they are applying as a consortium. A letter from the Internal Revenue Service or a statement included in a recent audit report is preferred. In the absence of either of these, a copy of the articles of incorporation showing the nonprofit status will be accepted.

4. Status as a Training Organization. This section applies only to applicants that are not colleges or universities. Show that training or education is a principal activity of their organization. Through audit reports, annual reports, or other documentation, demonstrate that for the last two years more than 50 percent of the organization's funds have been used for training and education activities and that more than 50 percent of its staff resources have also been used for this purpose.

5. Occupational Safety and Health Training Experience. Describe the organization's relevant course offerings for the last two years. Include copies of catalogs and other recruitment materials that provide descriptive material about the courses. For each course, include the dates the course was offered and the number of students who completed the course. Also provide descriptive material including course descriptions and number of hours that is similar to the information contained in the appendix to this Notice.

6. OSHA Training Institute Courses. Indicate which of the OSHA Training Institute courses the organization would offer. The complete list of available courses is attached.

7. Staff Qualifications. Describe the qualifications of course chairpersons and staff teaching occupational safety and health courses. Indicate the professional qualifications of each, such as Certified Safety Professional (CSP), Professional Engineer (PE), or Certified Industrial Hygienist (CIH). Also describe staff knowledge of and experience with OSHA standards and their application to hazards and hazard abatement. Include resumes of current staff and position descriptions and minimum hiring qualifications for all positions, whether filled or vacant, that may be assigned to conduct OSHA classes.

8. Classroom Facilities. Describe classroom facilities available for presentation of the courses. Include number of students accommodated, table arrangements, and availability of audiovisual equipment. Also describe appropriate laboratory facilities and other facilities available for hands-on exercises. Indicate provisions for accessibility for persons with disabilities.

9. Distance Learning. Describe plans for identifying satellite downlink sites within the Region for receiving OSHA Training Institute broadcasts. Identify the types of organizations that would be contacted and the information that would be made available to the OSHA Training Institute to ensure a successful broadcast.

10. Outreach Training Program. Provide a description of the systems that would be in place to administer the Outreach Training Program and to assure its integrity including maintaining records, ensuring that only authorized trainers receive student cards, reviewing requests for student cards, and distributing student cards.

11. Tuition. Provide a copy of the organization's tuition and fee schedule. Explain how tuition or fees will be computed for each course, referencing the organization's tuition and fee schedule.

12. Recruitment. Explain procedures for marketing the training programs, promoting the organizations status as an OSHA Training Institute Education Center within the region, and recruiting students from the private sector and from federal agencies other than OSHA.

13. Registration. Describe registration procedures including provisions for cancellation, furnishing enrollees with hotel information, and tuition or fee collection.

14. Location. Describe the accessibility of the training facility for students. Include such items as distance from a major airport, number of airlines serving the airport, transportation from the airport to hotels, and distance from the interstate system.

15. Accommodations. Provide a representative listing of hotels available for student accommodation and give sample room rates. Explain how students will be transported between the hotels and classes. Describe the food service and restaurants available both in the area in which the classes will be held and in the area where the hotels are located.

16. Off-site Courses. Successful applicants are required to conduct courses at sites other than their own facilities, especially in other states in their Region. Describe the organization's plan to provide off-site training within their respective Region including procedures to assure that classroom facilities and accommodations are adequate.

17. Nondiscrimination. Provide copies of the organization's nondiscrimination policies covering staff and students. In the absence of a written policy, explain how the organization will ensure that staff and students are selected without regard to race, color, national origin, sex, age, or disability.

Application Submission

Applications (3 copies) must be submitted to the attention of Jim Barnes, Director, Office of Training and Educational Programs, OSHA Directorate of Training and Education, 2020 S. Arlington Heights Rd., Arlington Heights, Illinois 60005-4102. The submission is to consist of one original and two copies of the application. Applications should not be bound or stapled and should only be printed on one side of the page.

Application Dealine

Applications (3 copies) must be received no later than 4:30 p.m. central time on Friday, August 24, 2007.

Application Review Process

A panel of OSHA staff will review the application and will consider each of the factors listed below.

1. Occupational Safety and Health Training Experience. Evidence that occupational safety and health training or education has been an ongoing program of the organization. Reviewers will examine the number of different occupational safety and health courses offered by the organization, the number of students completing each course, and the number of times each course was offered.

2. Qualifications of Staff. For personnel teaching occupational safety and health courses this includes academic training in occupational safety and health subjects, experience with the application of OSHA standards to hazards and hazard abatement, professional certification, practical experience in the field of occupational safety and health, and experience in training workers or managers in nonacademic situations.

3. Outreach Training Program. Plans for administering the Outreach Training Program and ensuring program integrity will be reviewed.

4. Location. A major airport with regular service to all parts of the Region should be within a reasonable driving time from the training location and the hotel. Interstate highways should also be within reasonable distance.

5. Adequacy of Training Facilities. Potential for accommodating classes of 25 to 40 students on a year-round basis in settings comparable to those of the OSHA Training Institute will be reviewed. Items considered will include classroom layout, availability of audiovisual equipment, reproduction facilities for handouts, and availability of appropriate laboratory and hands-on facilities. Accessibility for persons with disabilities will also be considered.

6. Distance Learning. Successful applicants will demonstrate the capability to identify satellite downlink sites in their Region for use by federal and state employees and private sector employers and employees to receive satellite delivered training from the OSHA Training Institute. At a minimum, applicants should identify potential satellite downlink sites in all cities with a federal or state compliance office or state consultation office as well as other major population centers within the Region.

7. Recruitment for the programs. Successful applicants will articulate their detailed plans for marketing the training programs, promoting status as an OSHA Training Institute Education Center within the region, and recruiting students from the private sector and from federal agencies other than OSHA.

8. Registration Procedures. How reasonable are the organization's procedures for registering students including methods of reaching potential students, ease of registration, provisions for cancellations, and system for informing students of available accommodations are among the items that will be reviewed.

9. Accommodations. Preferably, national hotel/motel chains and restaurants should be reasonably priced and should be within a few miles of the training facility.

10. Tuition. Conformance of proposed tuition or fees with the established policies of the applicant and reasonableness of the charges will be considered.

11. Off-site Courses. Experience and ability of the organization to conduct courses at sites other than its own facility will be considered.

12. Nondiscrimination. Adherence of the organization's policies with federal requirements will be reviewed.

Application Selection Process

The OSHA review panel will make recommendations to the Assistant Secretary of Labor for Occupational Safety and Health, who will make the final decisions.

Notification of Selection

Applicants will be notified by a representative of the Assistant Secretary of Labor for Occupational Safety and Health, if their organization is selected as an OSHA Training Institute Education Center. An organization may not conduct OSHA Training Institute Education Center activities until it has signed a non-financial cooperative agreement with OSHA.

Notification of Non-Selection

Applicants will be notified in writing if their organization is not selected to be an OSHA Training Institute Education Center.

Non-Selection Appeal

There is no appeal procedure for unsuccessful applicants. All decisions by the Assistant Secretary of Labor for Occupational Safety and Health are final.

Applicants may request a copy of the documentation of the review of their application by writing to Jim Barnes, Director, Office of Training and Educational Programs, OSHA Directorate of Training and Education, 2020 S. Arlington Heights Rd., Arlington Heights, Illinois 60005-4102.

Authority

Section 21 of the Occupational Safety and Health Act of 1970 (29 U.S.C. 670).

Signed at Washington, DC, this 16th day of July, 2007.
Edwin G. Foulke, Jr.,
Assistant Secretary of Labor for Occupational Safety and Health.

Attachment

#500—Trainer Course in OSHA Standards for Construction

This course is designed for personnel in the private sector interested in teaching the 10- and 30-hour construction safety and health outreach program to their employees and other interested groups. Special emphasis is placed on those topics that are required in the 10- and 30-hour programs as well as on those that are the most hazardous, using OSHA standards as a guide. Course participants are briefed on effective instructional approaches and the effective use of visual aids and handouts. This course allows the student to become a trainer in the Outreach Program and to conduct both a 10- and 30-hour construction safety and health course and to issue cards to participants verifying course completion. Prerequisites: Course #510 and five years of construction safety experience.

Note: Students in Course #500 who wish to participate as authorized trainers in the Outreach Program must successfully pass a written exam at the end of the course. Outreach trainers are required to attend Course #502 at least once every four years to maintain their trainer status.

#501—Trainer Course in OSHA Standards for General Industry

This course is designed for personnel in the private sector interested in teaching the 10- and 30-hour general industry safety and health outreach program to their employees and other interested groups. Special emphasis is placed on those topics that are required in the 10- and 30-hour programs as well as on those that are the most hazardous, using OSHA standards as a guide. Course participants are briefed on effective instructional approaches and the effective use of visual aids and handouts. This course allows the student to become a trainer in the Outreach Program and to conduct both a 10- and 30-hour general industry safety and health course and to issue cards to participants verifying course completion. Prerequisites: Course #511 and five years of general industry safety experience. Note: Students in Course #501 who wish to participate as authorized trainers in the Outreach Program must successfully pass a written exam at the end of the course. Outreach trainers are required to attend Course #503 at least once every four years to maintain their trainer status.

#502—Update for Construction Industry Outreach Trainers

This course is designed for personnel in the private sector who have completed #500 Trainer Course in Occupational Safety and Health Standards for the Construction Industry and who are active trainers in the outreach program. It provides an update on such topics as OSHA construction standards, policies, and regulations. Prerequisites: Course #500. Note: Outreach trainers are required to attend this course once every four years to maintain their trainer status. Students must bring their current trainer's card for validation.

#503—Update for General Industry Outreach Trainers

This course is designed for private sector personnel who have completed course #501 Trainer Course in Occupational Safety and Health Standards for General Industry and who are active trainers in the outreach program. It provides an update on OSHA general industry standards and OSHA policies. Prerequisites: Course #501.

Note: Outreach trainers are required to attend this course once every four years to maintain their trainer status. Students must bring their current trainer's card for validation.

#510—Occupational Safety and Health Standards for Construction

This course for private sector personnel covers OSHA policies, procedures, and standards, as well as construction safety and health principles. Topics include scope and application of the OSHA construction standards. Special emphasis is placed on those areas that are the most hazardous, using OSHA standards as a guide. Upon successful course completion, the student will receive an OSHA construction safety and health 30-hour course completion card.

#511—Occupational Safety and Health Standards for General Industry

This course for private sector personnel covers OSHA policies, procedures, and standards, as well as general industry safety and health principles. Topics include scope and application of the OSHA general industry standards. Special emphasis is placed on those areas that are the most hazardous, using OSHA standards as a guide. Upon successful course completion, the student will receive an OSHA general industry safety and health 30-hour course completion card.

#521—OSHA Guide to Industrial Hygiene

This course addresses industrial hygiene practices and related OSHA regulations and procedures. Topics include permissible exposure limits, OSHA health standards, respiratory protection, engineering controls, hazard communication, OSHA sampling procedures and strategy, workplace health program elements and other industrial hygiene topics. The course features workshops in health hazard recognition, OSHA health standards and a safety and health program workshop.

#2015—Hazardous Materials

This shortened version of #2010 covers OSHA general industry standards and integrates materials from other consensus and proprietary standards that relate to hazardous materials. Included are flammable and combustible liquids, compressed gases, LP-gases, and cryogenic liquids. Related processes such as spraying and dipping are covered, as well as electrical equipment. Prerequisites: 21(d) State Consultants: Computer-based #1500 Basic Onsite Consultation program. Other Federal Agency or Department Personnel: Course #2005, #6000, or #6010. Private Sector and Other Non-Federal Government personnel: Course #2005, #501, #510, or #511. This course is available to non-compliance personnel only.

#2045—Machinery and Machine Guarding Standards

This shortened version of #2040 familiarizes the student with various types of common machinery and the related safety standards. Guidance is provided on the hazards associated with various kinds of machinery and the control of hazardous energy sources (lockout/tagout). The course presents an approach to machinery inspection that enables participants to recognize hazards and to provide options to achieve abatement. These hazards include mechanical motions and actions created by points of operation and other machinery processes. Also included is hands-on training in the laboratories. Prerequisites: 21(d) State Consultants: Computer-based #1500 Basic Onsite Consultation program. Other Federal Agency or Department Personnel: Course #2005, #6000, or #6010. Private Sector and Other Non-Federal Government personnel: Course #2005, #501, #510 or #511. This course is available to non-compliance personnel only.

#2225—Respiratory Protection

This course covers the requirements for the establishment, maintenance, and monitoring of a respirator program. Topics include terminology, OSHA standards, National Institute for Occupational Safety and Health (NIOSH) certification, and medical evaluation recommendations. Program highlights include laboratories on respirator selection, qualitative fit testing, and the use of a large array of respiratory and support equipment for hands-on training.

#2250—Ergonomics Applied to MSDs and Nerve Disorders

This course covers the use of ergonomic principles to recognize, evaluate, and control work place conditions that cause or contribute to musculoskeletal and nerve disorders. Topics include work physiology, anthropometry, musculoskeletal disorders, use of video display terminals, and risk factors such as vibration, temperature, material handling, repetition, and lifting and transfers in health care. Course emphasis is on industrial case studies covering analysis and design of workstations and equipment, laboratory sessions in manual lifting, and coverage of current OSHA compliance policies. Prerequisites: OSHA Federal and State Compliance Officers: Course #1000. 21(d) State Consultants: Computer-based program, “Basic Onsite Consultation.” Safety personnel: Course #1210. Other Federal Agency or Department personnel: Course #6000, #6010 OR EQUIVALENT. Private Sector and Other Non-Federal Government personnel: Course #501, #510, OR EQUIVALENT.

#2264—Permit-Required Confined Space Entry

This course is designed to enable students to recognize, evaluate, prevent, and abate safety and health hazards associated with confined space entry. Technical topics include the recognition of confined space hazards, basic information about instrumentation used to evaluate atmospheric hazards, and ventilation techniques. This course features workshops on permit entry classification and program evaluation.

#3010—Excavation, Trenching and Soil Mechanics

This course focuses on OSHA standards and on the safety aspects of excavation and trenching. Students are introduced to practical soil mechanics and its relationship to the stability of shored and unshored slopes and walls of excavations. Various types of shoring (wood timbers and hydraulic) are covered. Testing methods are demonstrated and a one-day field exercise is conducted, allowing students to use instruments such as penetrometers, torvane shears, and engineering rods. Prerequisites: All participants must have completed Course #2000, #510, or have equivalent construction training or experience. Industrial hygienists may substitute Course #1010 for #2000.

#3095—Electrical Standards

This shortened version of #3090 is designed to provide the student with a survey of OSHA's electrical standards and the hazards associated with electrical installations and equipment. Topics include single- and three-phase systems, cord- and plug-connected and fixed equipment, grounding, ground fault circuit interrupters, and safety-related work practices. Emphasis is placed on electrical hazard recognition and OSHA policies and procedures. Students will receive instruction on safe and correct use of their electrical testing equipment. Prerequisites: All OSHA personnel must have completed Course #2030 or have equivalent training or experience. Other Federal Agency or Department personnel: Course #2005, #6000, or #6010 or equivalent. This course is available to noncompliance personnel only.

#3110—Fall Arrest Systems

This course provides an overview of state-of-the-art technology for fall protection and current OSHA requirements. Topics covered include the principles of fall protection, the components of fall arrest systems, the limitations of fall arrest equipment, and OSHA policies regarding fall protection. Course features a one-day field exercise demonstrating fall protection equipment. Prerequisites: All participants must have completed Course #2000, #510, or have equivalent construction training or experience. Industrial hygienists may substitute Course #1010 for #2000.

#5600—Disaster Site Worker Train-the-Trainer Course

The Disaster Site Worker Train-the-Trainer Course prepares experienced trainers to present OSHA's 16-hour Disaster Site Worker Course. Trainers for this course need to be able to apply the elements of successful adult training programs, along with specific knowledge, skills, and attitudes to awareness training about safety and health standards at natural and man-made disaster sites. Trainers are given the opportunity to practice knowledge, skills, and attitudes through discussion, planned exercises, demonstrations, and presentations. Participants receive lesson plans and training materials for the Disaster Site Worker Course as well as information on training techniques and resources. Trainers will be expected to present a selected portion of the Disaster Site Worker Course and to use a “presentation evaluation” sheet to evaluate to other presenters. Prerequisite: The intended audience for this course is authorized OSHA #500 trainers who have also completed the 40-hour HAZWOPER training.

#6000—Collateral Duty Course for Other Federal Agencies

This course introduces federal agency collateral duty safety and health personnel to the OSH Act, Executive Order 12196, 29 CFR part 1960 and 29 CFR part 1910. The training enables participants to recognize basic safety and health hazards in the workplace and effectively assist agency safety and health officers with inspection and abatement efforts.

#7000—OSHA's Ergonomics Guidelines Training for Nursing Homes

The focus of this one-day course is to use OSHA's Ergonomics Guidelines for Nursing Homes to develop a process to protect workers in nursing homes. The course will focus on analyzing and identifying ergonomic problem jobs and practical solutions to address these problems. Featured topics include: Developing an ergonomic process; risk factors in the nursing home guidelines: Identifying problem jobs including protocol for resident assessment; and implementing solutions including work practices and engineering solutions.

#7005—Public Warehousing and Storage

The course is designed as a training course for warehouse workers and will focus on many hazards and injuries that are likely to be encountered in warehouse operations. It has been shown that warehousing has become an increasingly hazardous area to work in. OSHA has identified Public Storage and Warehousing as one of seven industries with a high lost time claims rate. Injuries may occur from forklifts; material handling and lifting; exposure to hazardous substances; and slips, trips and falls. The course will discuss: Powered industrial trucks; material handling/lifting/ergonomics; hazard communication; walking and working surfaces; and exit routes and fire protection.

#7100—Introduction to Machinery and Machine Safeguarding

The main focus of this course is to increase the participant's knowledge and skill in proper machine safeguarding techniques, and to highlight the benefits of guarding various types of machinery. It is the employer's responsibility to identify and select the safeguard necessary to protect employees and others in the work area, as well as provide appropriate training in safe work practices. Knowing when and how to properly safeguard machinery can reduce or eliminate the potential for accidents and injuries.

#7105—Evacuation and Emergency Planning

Evacuation and emergency planning focuses on OSHA requirements for emergency action plans and fire protection plans. Preparing for emergencies is a basic principle of workplace safety and health. Participants will learn: (1) Reasons for emergency action plans and fire prevention plans and when they are required for a workplace; (2) elements of a good evacuation plan; and (3) features of design and maintenance of good exit routes. The optional session for this course will focus on assessment of risk for terrorist attack and how to utilize OSHA's two matrices, evacuation planning and fire and explosion, as tools in planning for emergencies.

#7200—Bloodborne Pathogens Exposure Control for Healthcare Facilities

The purpose of this course is to develop a Bloodborne Pathogens Exposure Plan for healthcare facilities using a step-by-step approach. Featured topics include an Introduction to Bloodborne Pathogens Standard, the Exposure Control Plan, Exposure Determination, Methods of Control, Vaccinations and Evaluations, Training and Information, and Record Keeping.

#7205—Health Hazard Awareness

This course provides an introduction to common health hazards that are encountered in the workplace. These health hazards will include exposure to chemicals, asbestos, silica, and lead. The course will feature these topics: Identification of hazard; sources of exposure; health hazard information; evaluation of exposure; and engineering and work practice controls. The course materials will include an instructor and student manual; workshops and group activities; and PowerPoint presentations. The course is designed as an awareness course for employers and employees.

#7300—OSHA's Permit-Required Confined Space Standard

This one-day course discusses the requirements of OSHA's permit-required confined space standard, 29 CFR 1910.146. It is designed for small employers or a designated representative (line supervisor or manager) with the responsibility to develop a permit space program. It covers OSHA's requirements but does not feature hands-on sections (instrumentation and control methods and testing) which are included in OSHA course #2260.

#7400—Trainer Course in Construction Noise

The primary objectives of this one-day course are to increase the participant's knowledge and skill in construction noise and provide them with materials and guidance for training their workers. OSHA published an Advanced Notice for Proposed Rulemaking, Hearing Conservation Program for Construction Workers. This course builds on OSHA's efforts to reduce occupational hearing loss in the construction industry.

#7405—Fall Hazard Awareness for the Construction Industry

The focus of this 5-hour course is to identify, evaluate, and prevent or control fall hazards at constructions sites. The course focuses on falls to a lower level not falls to the same level resulting from slips and falls. The target audience is the small construction employer, business owner, or manager who would like to obtain information about fall hazards found in the workplace. The training is also suitable for employees and employee representatives. Topics include identifying fall hazards, analyzing fall hazards, and preventing fall hazards as well as OSHA resources addressing fall hazards.

#7500—Introduction to Safety and Health Management

Using interactive assignments and thought-provoking group projects, students of this one day workshop come away with a strong understanding of the benefits in implementing a safety and health management system in the workplace.

#7505—Introduction to Accident Investigation

Introduction to accident investigation provides an introduction to basic accident investigation procedures and describes accident analysis techniques. The goal of the course is to help participants gain the basic skills necessary to conduct an effective accident investigation at their workplace. The target audience is the small employer, manager, employee or employee representative who, as part of a firm's safety and health system, would be involved in conducting accident and/or near-miss investigations.

#7510—Introduction to OSHA for Small Business

This course provides an introduction to OSHA for owners and managers of small businesses. The goal of the course is to help participants gain an understanding of OSHA operations and procedures and learn how they can work with OSHA to prevent or reduce injuries and illnesses in their workplaces. Included in the course is information on the background of OSHA, standards, the inspection process, implementing a safety and health program, and assistance available to small business. It is anticipated that the course materials could be covered in 3½ to 4 hours.

#7845—Recordkeeping Rule Seminar

This course is designed to assist employers in identifying and fulfilling their responsibilities for posting certain records, maintaining records of illnesses and injuries and reporting specific cases to OSHA. Participants who successfully complete this course will be able to identify OSHA requirements and complete new OSHA's forms 300, 300A and 301.

[FR Doc. E7-14049 Filed 7-19-07; 8:45 am]

BILLING CODE 4510-26-P